DEPARTMENT OF TRANSPORTATION

Federal Aviation Administration

14 CFR Part 71

[Docket No. FAA-2023-1835; Airspace Docket No. 23-AEA-10]

RIN 2120-AA66

Amendment of United States Area Navigation (RNAV) Routes; Eastern United States

AGENCY: Federal Aviation Administration (FAA), DOT.

ACTION: Notice of proposed rulemaking (NPRM).

SUMMARY: This action proposes to establish three United States Area Navigation (RNAV) Q-routes in the eastern United States. This action also proposes to establish five and amend one United States RNAV T-routes in the eastern United States. This action support NextGen which provides a modern RNAV route structure to improve the efficiency of the National Airspace System (NAS).

DATES: Comments must be received on or before November 20, 2023

ADDRESSES: Send comments identified by FAA Docket No. FAA-2023-1835 and Airspace Docket No. 23-AEA-10 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the route structure to maintain the efficient flow of air traffic within the NAS.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA, 30337.

Incorporation by Reference

United States Area Navigation routes are published in paragraph 2006 and 6011 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

The Proposal

The FAA is proposing an amendment to 14 CFR part 71 to establish United States Area Navigation Routes Q-221, Q-227, Q-232, T-303, T-307, T-335, and T-432, and amend T-705 in the eastern United States. This action supports NextGen which provides a modern RNAV route structure to improve the efficiency of the NAS. The proposed changes are described below.

Q-221: Q-221 is a proposed new route that would extend between the Armel, VA (AML), Very High Frequency Omnidirectional Range/Distance Measuring Equipment (VOR/DME) to the DLMAR, PA, Waypoint (WP). Q-221 overlays jet route J-220 between the Armel VOR/DME to the DLMAR WP which is co-located with the Stonyfork, PA (SFK), VOR/DME.

Q-227: Q-227 is a proposed new route that would extend between the Armel, VA (AML), VOR/DME to the STUBN, NY, WP. Q-227 overlays jet route J-227 between the Armel VOR/DME to the STUBN WP which is co-located with the Elmira, NY (ULW), VOR/DME.

Q-232: Q-232 is a proposed new route that would extend between the STUBN, NY, WP to the NEION, NJ, Fix. Q-232 overlays a portion of jet route J-132 between the Elmira, NY (ULW), VOR/DME to the CORDS, PA, Fix, and jet route J-223 between the CORDS Fix to the NEION Fix.

T-303: T-303 is a proposed new route that would extend between the Kinston, NC (ISO), VOR/Tactical Air Navigation (VORTAC) to the Boston, MA (BOS), VOR/DME. T-303 overlays a portion of VOR Federal airway V-1 between the Kinston VORTAC and the Boston VOR/DME.

T-307: T-307 is a proposed new route that would extend between the PEARS, NC, Fix to the Syracuse, NY (SYR), VORTAC. T-307 overlays a portion of VOR Federal airway V-139 between the PEARS Fix to the Sea Isle, NJ (SIE), VORTAC; VOR Federal airway V-166 between the Sea Isle VORTAC to the BRIEF, NJ, Fix; VOR Federal airway V-184 between the PADRE, PA, Fix to the Philipsburg, PA (PSB), VORTAC; and VOR Federal airway V-35 between the Philipsburg VORTAC and the Syracuse VORTAC.

T-335: T-335 is a proposed new route that would extend between the ZJAAY, MD, WP and the Syracuse, NY (SYR), VORTAC. T-335 overlays VOR Federal airway V-29 between the ZJAAY WP, which is co-located with the Snow Hill, MD (SWL), VORTAC to the Syracuse VORTAC.

T-432: T-432 is a proposed new route that would extend between the STUBN, NY, WP and the NEION, NJ, Fix. T-432 overlays V-36 between the STUBN WP, which is co-located with the Elmira, NY (ULW), VOR/DME, to the NEION Fix.

T-705: T-705 currently extends between the DANZI, NY, WP and the MUTNA, NY, WP. The FAA proposes to remove the route segment between the DANZI WP, and the CODDI, NY, Fix. Additionally, the FAA proposes to extend T-705 to the southeast between the CODDI Fix to the Nantucket, MA (ACK), VOR/DME. The amended route segment of T-705 overlays portions of VOR Federal airway V-46 between the Nantucket VOR/DME and the Calverton, NY (CCC), VOR/DME, and VOR Federal airway V-44 between the BELTT, NY, Fix to the Pawling, NY (PWL), VOR/DME.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2006 United States Area Navigation Routes

* * * * *

Q-221 Armel, VA (AML) to DLMAR, PA [New]
Armel, VA (AML) | VOR/DME | (Lat. 38°56′04.53″ N, long. 077°28′00.13″ W)
DLMAR, PA | WP | (Lat. 41°41′42.56″ N, long. 077°25′11.02″ W)
* * * * *
Q-227 Armel, VA (AML) to STUBN, NY [New]
Armel, VA (AML) | VOR/DME | (Lat. 38°56′04.53″ N, long. 077°28′00.13″ W)
OGESY, PA | WP | (Lat. 40°44′13.65″ N, long. 077°26′11.63″ W)
STUBN, NY | WP | (Lat. 42°05′38.58″ N, long. 077°01′28.68″ W)
* * * * *
Q-232 STUBN, NY to NEION, NJ [New]
STUBN, NY | WP | (Lat. 42°05′38.58″ N, long. 077°01′28.68″ W)
CORDS, PA | FIX | (Lat. 41°34′11.04″ N, long. 075°08′23.50″ W)
NEION, NJ | FIX | (Lat. 41°13′41.21″ N, long. 074°34′50.78″ W)

* * * * *

Paragraph 6011 United States Area Navigation Routes.

* * * * *

T-303 Kinston, NC (ISO) to Boston, MA (BOS) [New]
Kinston, NC (ISO) | VORTAC | (Lat. 35°22′15.41″ N, long. 077°33′29.94″ W)
KOHLS, NC | WP | (Lat. 36°22′17.76″ N, long. 076°52′21.48″ W)
Norfolk, VA (ORF) | VORTAC | (Lat. 36°53′30.86″ N, long. 076°12′01.18″ W)
OUTLA, VA | WP | (Lat. 37°20′45.48″ N, long. 075°59′54.08″ W)
JAMIE, VA | FIX | (Lat. 37°36′20.58″ N, long. 075°57′48.81″ W)
MAGGO, MD | FIX | (Lat. 37°58′58.48″ N, long. 075°44′01.39″ W)
TRPOD, MD | WP | (Lat. 38°20′20.33″ N, long. 075°32′01.85″ W)
Waterloo, DE (ATR) | VOR/DME | (Lat. 38°48′35.32″ N, long. 075°12′40.76″ W)
LEEAH, NJ | FIX | (Lat. 39°15′39.27″ N, long. 074°57′11.01″ W)
DIXIE, NJ | FIX | (Lat. 40°05′57.72″ N, long. 074°09′52.17″ W)
Kennedy, NY (JFK) | VOR/DME | (Lat. 40°37′58.38″ N, long. 073°46′17.01″ W)
Deer Park, NY (DPK) | VOR/DME | (Lat. 40°47′30.30″ N, long. 073°18′13.17″ W)
Madison, CT (MAD) | VOR/DME | (Lat. 41°18′49.90″ N, long. 072°41′31.93″ W)
Hartford, CT (HFD) | VOR/DME | (Lat. 41°38′27.98″ N, long. 072°32′50.70″ W)
GRAYM, MA | FIX | (Lat. 42°06′04.27″ N, long. 072°01′53.49″ W)
GRIPE, MA | FIX | (Lat. 42°08′08.87″ N, long. 071°54′32.47″ W)
Boston, MA (BOS) | VOR/DME | (Lat. 42°21′26.82″ N, long. 070°59′22.37″ W)
* * * * *
T-307 PEARS, NC to Syracuse, NY (SYR) [New]
PEARS, NC | FIX | (Lat. 35°47′12.36″ N, long. 076°57′01.97″ W)
Norfolk, VA (ORF) | VORTAC | (Lat. 36°53′30.86″ N, long. 076°12′01.18″ W)
OUTLA, VA | WP | (Lat. 37°20′45.48″ N, long. 075°59′54.08″ W)
DUNFE, VA | FIX | (Lat. 37°53′18.83″ N, long. 075°35′29.39″ W)
ZJAAY, MD | WP | (Lat. 38°03′09.95″ N, long. 075°26′34.27″ W)
CBEAV, MD | FIX | (Lat. 38°22′19.01″ N, long. 075°15′53.18″ W)
WNSTN, NJ | WP | (Lat. 39°05′43.81″ N, long. 074°48′01.20″ W)
BRIEF, NJ | FIX | (Lat. 39°26′55.21″ N, long. 075°07′39.69″ W)
TEBEE, NJ | FIX | (Lat. 39°30′13.97″ N, long. 075°19′37.19″ W)
CHAZR, DE | WP | (Lat. 39°29′28.14″ N, long. 075°44′28.13″ W)
APEER, MD | WP | (Lat. 39°37′32.94″ N, long. 075°50′25.39″ W)
REESY, PA | WP | (Lat. 39°45′27.94″ N, long. 075°52′07.09″ W)
PADRE, PA | FIX | (Lat. 39°56′16.67″ N, long. 076°03′18.63″ W)
DELRO, PA | FIX | (Lat. 39°57′55.71″ N, long. 076°37′31.24″ W)
Harrisburg, PA (HAR) | VORTAC | (Lat. 40°18′08.06″ N, long. 077°04′10.41″ W)
PYCAT, PA | FIX | (Lat. 40°26′46.60″ N, long. 077°17′21.35″ W)
MCMAN, PA | FIX | (Lat. 40°38′16.11″ N, long. 077°34′14.31″ W)
RASHE, PA | FIX | (Lat. 40°40′36.04″ N, long. 077°38′38.94″ W)
Philipsburg, PA (PSB) | VORTAC | (Lat. 40°54′58.53″ N, long. 077°59′33.78″ W)
DLMAR, PA | WP | (Lat. 41°41′42.56″ N, long. 077°25′11.02″ W)
STUBN, NY | WP | (Lat. 42°05′38.58″ N, long. 077°01′28.68″ W)
Syracuse, NY (SYR) | VORTAC | (Lat. 43°09′37.87″ N, long. 076°12′16.41″ W)
* * * * *
T-335 ZJAAY, MD to Syracuse, NY (SYR) [New]
ZJAAY, MD | WP | (Lat. 38°03′09.95″ N, long. 075°26′34.27″ W)
TRPOD, MD | WP | (Lat. 38°20′20.33″ N, long. 075°32′01.85″ W)
EZIZI, DE | FIX | (Lat. 38°36′12.96″ N, long. 075°30′38.10″ W)
Smyrna, DE (ENO) | VORTAC | (Lat. 39°13′53.93″ N, long. 075°30′57.49″ W)
Dupont, DE (DQO) | VORTAC | (Lat. 39°40′41.31″ N, long. 075°36′25.51″ W)
MARQI, PA | WP | (Lat. 39°55′22.30″ N, long. 075°32′11.18″ W)
Pottstown, PA (PTW) | VORTAC | (Lat. 40°13′20.04″ N, long. 075°33′36.90″ W)
East Texas, PA (ETX) | VOR/DME | (Lat. 40°34′51.74″ N, long. 075°41′02.51″ W)
WLKES, PA | WP | (Lat. 41°16′22.57″ N, long. 075°41′21.60″ W)
Binghamton, PA (CFB) | VOR/DME | (Lat. 42°09′26.97″ N, long. 076°08′11.30″ W)
CORTA, PA | WP | (Lat. 42°40′25.65″ N, long. 076°04′34.93″ W)
Syracuse, NY (SYR) | VORTAC | (Lat. 43°09′37.87″ N, long. 076°12′16.41″ W)
* * * * *
T-432 STUBN, NY to NEION, NJ [New]
STUBN, NY | WP | (Lat. 42°05′38.58″ N, long. 077°01′28.68″ W)
BNELE, PA | WP | (Lat. 41°49′06.83″ N, long. 076°03′04.46″ W)
HAWLY, PA | WP | (Lat. 41°32′23.31″ N, long. 075°05′25.66″ W)
NEION, NJ | WP | (Lat. 41°13′41.21″ N, long. 074°34′50.78″ W)
* * * * *
T-705 Nantucket, MA (ACK) to MUTNA, NY [Amended]
Nantucket, MA (ACK) | VOR/DME | (Lat. 41°16′54.79″ N, long. 070°01′36.16″ W)
LIBBE, NY | FIX | (Lat. 41°00′15.86″ N, long. 071°21′20.34″ W)
ORCHA, NY | WP | (Lat. 40°54′55.46″ N, long. 072°18′43.64″ W)
Calverton, NY (CCC) | VOR/DME | (Lat. 40°55′46.63″ N, long. 072°47′55.89″ W)
Bridgeport, CT (BDR) | VOR/DME | (Lat. 41°09′38.54″ N, long. 073°07′28.15″ W)
LOVES, CT | FIX | (Lat. 41°32′19.64″ N, long. 073°29′17.14″ W)
PAWLN, NY | FIX | (Lat. 41°46′11.51″ N, long. 073°36′02.64″ W)
CYPER, NY | FIX | (Lat. 42°06′32.37″ N, long. 074°16′25.52″ W)
CODDI, NY | FIX | (Lat. 42°22′52.15″ N, long. 075°00′21.84″ W)
LAMMS, NY | WP | (Lat. 43°01′35.30″ N, long. 075°09′51.50″ W)
SRNAC, NY | WP | (Lat. 44°23′05.00″ N, long. 074°12′16.11″ W)
RIGID, NY | WP | (Lat. 44°35′19.53″ N, long. 073°44′34.07″ W)
PBERG, NY | WP | (Lat. 44°42′06.25″ N, long. 073°31′22.18″ W)
MUTNA, NY | WP | (Lat. 45°00′20.84″ N, long. 073°33′27.65″ W)

* * * * *

Issued in Washington, DC, on September 28, 2023.
Karen L. Chiodini,
Acting Manager, Rules and Regulations Group.

[FR Doc. 2023-21895 Filed 10-3-23; 8:45 am]

BILLING CODE 4910-13-P